DEPARTMENT OF COMMERCE

International Trade Administration

Initiation of Antidumping and Countervailing Duty Administrative Reviews, Request for Revocation in Part and Deferral of Administrative Review

AGENCY: Import Administration, International Trade Administration, Department of Commerce.

ACTION: Notice of initiation of antidumping and countervailing duty administrative reviews, request for revocation in part and deferral of administrative review.

SUMMARY: The Department of Commerce (the Department) has received requests to conduct administrative reviews of various antidumping and countervailing duty orders and findings with August anniversary dates. In accordance with the Department's regulations, we are initiating those administrative reviews. The Department also received a request to revoke one antidumping duty order in part and to defer the initiation of an administrative review of one company in one countervailing duty order.

EFFECTIVE DATE: September 30, 2003.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with August anniversary dates. The Department also received a timely request to revoke in part the antidumping duty order on Certain Small Diameter Carbon and Alloy Seamless Standard, Line and Pressure Pipe from Romania. In addition, the Department received a request to defer for one year the initiation of the January 1, 2002 through December 31, 2002 administrative review of the countervailing duty order on Stainless Steel Sheet and Strip in Coils from France with respect to one exporter in accordance with 19 CFR 351.213(c). The Department received no objection to this request for any party cited in 19 CFR 351.213(c)(l)(ii).

Initiation of Reviews

In accordance with 19 CFR 351.221(c)(1)(i), we are initiating administrative reviews of the following antidumping and countervailing duty orders and findings. We intend to issue the final results of these reviews not later than August 31, 2004. Also, in accordance with 19 CFR 351.213(c), we are deferring for one year the initiation of the January 1, 2002, through December 31, 2002, administrative review of the countervailing duty order on Stainless Steel Sheet and Strip in Coils from France with respect to one exporter.

| Period to be reviewed
Antidumping Duty Proceedings
Argentina: Oil Country Tubular Goods, A-357-810 | 8/1/02-7/31/03
Siderca, S.A.I.C
Brazil: Seamless Pipe, A-351-826 | 8/1/02-7/31/03
V & M do Brasil S.A.
Canada:
Corrosion-Resistant Carbon Steel Flat Products, A-122-822 | 8/1/02-7/31/03
Continuous Colour Coat, Ltd.
Dofasco Inc.
Ideal Roofing Company, Ltd.
Impact Steel Canada Ltd.
Russel Metals Export
Sorevco and Company, Ltd.
Stelco Inc.
Pure Magnesium, A-122-814 | 8/1/02-7/31/03
Magnola Metallurgy Inc.
Norsk Hydo Canada, Inc.
France: Industrial Nitrocellulose, A-427-009 | 8/1/02-7/31/03
Bergerac N.C.
India: Polyethylene Terephthalate (PET) Film, A-533-824 | 12/21/01-6/30/03
Gareware Polyester Limited ¹
Italy: Granular Polytetrafluoroethylene (PTFE) Resin, A-475-703 | 8/1/02-7/31/03
Solvay Solexis, Inc.
Japan:
Corrosion-Resistant Carbon Steel Flat Products, A-588-824 | 8/1/02-7/31/03
JFE Steel Corporation
Nippon Steel Corporation
Kobe Steel Company, Ltd.
Sumitomo Metals
Kawasho Corporation
Nisshin Steel
Granular Polytetrafluroethylene Resin, A-588-707 | 8/1/02-7/31/03
Asahi Glass Fluoropolymers Co., Ltd.
Mexico: Carbon and Alloy Seamless Standard, Line and Pressure Pipe (Over ⅘ Inches), A-201-827 | 8/1/02-7/31/03
Tubos de Acero de Mexico, S.A.
Gray Portland Cement and Clinker, A-201-802 | 8/1/02-7/31/03
CEMEX, S.A. de C.V.
GCC Cementos, S.A. de C.V.
Oil Country Tubular Goods, A-201-817 | 8/1/02-7/31/03
Hylsa, S.A. de C.V.
Republic of Korea:
Corrosion-Resistant Carbon Steel Flat Products, A-580-816 | 8/1/02-7/31/03
Dongbu Steel Co., Ltd.
Dongshin Special Steel Co., Ltd.
Hyundai Hysco
Pohang Iron and Steel Co., Ltd./Pohang Coated Steel Co., Ltd./Pohang Steel Indust
SeAH Steel Corporation
Union Steel Manufacturing Co., Ltd.
Structural Steel Beams, A-580-841 | 8/1/02-7/31/03
Dongkuk Steel Mill Co., Ltd.
INI Steel Company
Romania:
Certain Small Diameter Carbon and Alloy Seamless Standard, Line and Pressure Pipe, A-485-805 | 8/1/02-7/31/03
S.C. Silcotub S.A.
S.C. Petrotub S.A.
Cut-to-Length Carbon Steel Plate, A-485-803 | 8/1/02-7/31/03
CSR SA Resita
Metalexportimport, S.A.
MINMET, S.A.
Sidex S.A.
Taiwan: Stainless Steel Sheet and Strip in Coils, A-583-831 | 7/1/02-6/30/03
Chia Far Industrial Co., Ltd.²
The People's Republic of China:
Petroleum Wax Candles ³, A-570-504 | 8/1/02-7/31/03
Amstar Business Co., Ltd.
AtHome America
Avon Products, Inc.
Candle World Industrial Co.
Dalian Hanbo Lighting Co., Ltd.
Dongguan Fay Candle Company, Ltd.
Generaluxe Factory
Guangdong Xin Hui City Si Qian Art & Craft Factory
Jiangsu Holly Corporation
Li & Fung Trading Ltd.
Premier Candle Co. Ltd.
Qingdao Kingking Applied Chemistry Co., Ltd.
Shandong Jiaye Gen. Merch.
Shanghai Charming Wax Co., Ltd.
Simon Int'l Ltd.
Sincere Factory Company
Smartcord Int'l Co., Ltd./Rich Talent Trading
Suzhou Ind'l Park Nam Kwong
Taizhou Int'l Trae Corp.
Two's Company Inc.
Universal Candle Co., Ltd.
Zen Continental Co., Inc.
Zhong Hang-Scanwell International/Scanwell Freight Express (LAX), Inc.
Countervailing Duty Proceedings
Canada:
Alloy Magnesium C-122-815 | 1/1/02-12/31/02
Magnola Metallurgy Inc.
Norsk Hydro Canada Inc.
Pure Magnesium, C-122-815 | 1/1/02-12/31/02
Magnola Metallurgy Inc.
Norsk Hydro Canada Inc.
Deferral of Initiation of Administrative Review
France: Stainless Steel Sheet and Strip in Coils, C-427-815 | 1/1/02-12/31/02
Ugine S.A.
Suspension Agreements
None
¹ Company inadvertently omitted from previous initiation notice.
² Company inadvertently omitted from previous initiation notice.
³ If one of the above named companies does not qualify for a separate rate, all other exporters of petroleum wax candles from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)) and 19 CFR 351.221(c)(1)(i).

Dated: September 24, 2003.
Holly A. Kuga,
Acting Deputy Assistant Secretary for Import Administration, Group II.

[FR Doc. 03-24766 Filed 9-29-03; 8:45 am]

BILLING CODE 3510-DS-P